DEPARTMENT OF COMMERCE

National Oceanic and Atmospheric Administration

50 CFR Part 224

RIN 0648-XZ50

Endangered and Threatened Wildlife and Plants; Final Endangered Listing of Five Species of Sawfish Under the Endangered Species Act

AGENCY: National Marine Fisheries Service (NMFS), National Oceanic and Atmospheric Administration (NOAA), Commerce.

ACTION: Final rule; correction.

SUMMARY: This action corrects the amendatory instruction to a final rule published on December 12, 2014, which incorrectly instructed deletion of the U.S. Distinct Population Segment of smalltooth sawfish (Pristis pectinata) from the list of endangered species under the Endangered Species Act. This correction removes the incorrect language from the instruction.

DATES: This final rule correction is effective January 12, 2015.

ADDRESSES: Information regarding this final rule may be obtained by contacting NMFS, Endangered Species Division, 1315 East West Highway, Silver Spring, MD 20910.

FOR FURTHER INFORMATION CONTACT: Dr. Dwayne Meadows, NMFS, Office of Protected Resources (301) 427-8403.

SUPPLEMENTARY INFORMATION:

Need for Correction

In a final rule NMFS published on December 12, 2014 (79 FR 73977) to list 5 species of sawfishes as endangered, we incorrectly included an instruction in the regulatory text section to delete the entry for a prior listing for a different sawfish (the U.S. Distinct Population Segment of smalltooth sawfish (Pristis pectinata)) from the list of endangered species under the Endangered Species Act in 50 CFR 224.101(h). On page 74005, in column 3, amendatory instruction 2.A. is corrected to reads as follows:

“2. In § 224.101, paragraph (h), amend the table by:

A. Removing the “Sawfish, largetooth” entry.”

Dated: December 19, 2014.
Samuel D. Rauch, III,
Deputy Assistant Administrator for Regulatory Programs, National Marine Fisheries Service.

[FR Doc. 2014-30596 Filed 12-30-14; 8:45 am]

BILLING CODE 3510-22-P